DEPARTMENT OF HOMELAND SECURITY

Coast Guard

[Docket No. USCG-2007-0003]

Permanent Relocation of the Coast Guard National Maritime Center (NMC)

AGENCY: Coast Guard, DHS.

ACTION: Notice.

SUMMARY: The Coast Guard National Maritime Center (NMC), which was previously located in Arlington, VA, and more in Kearneysville, WV, has moved into its new permanent location in Martinsburg, WV, as part of a planned effort to restructure and centralize the Mariner Licensing and Documentation (MLD) Program. This notice provides information regarding both the MLD Program restructuring and how to address correspondence to the appropriate staff of the reorganized and relocated NMC.

DATES: The permanent office in Martinsburg, WV, became operational on January 7, 2008. No further NMC operations will be carried out in Arlington, VA, or Kearneysville, WV.

ADDRESSES: The National Maritime Center's new facility is located at 100 Forbes Drive in Martinsburg, WV.

Correspondence should be addressed as follows in order to facilitate the most efficient mail processing and timely responses to the public's requests:

Commanding Officer

* (For correspondence to other than the Commanding Officer, insert the appropriate division title and designation as provided below.)

Coast Guard National Maritime Center 100 Forbes Drive, Martinsburg, WV 25404.

* Operations and Oversight (NMC-1) for issues related to Regional Examination Center (REC) operations and quality assurance;

* Mariner Training, Assessment, and Exams (NMC-2) for issues related to Exams, Course Approvals, Instructors, Designated Examiners, and Oversight & Audits;

* Program Support (NMC-3) for issues related to finance, general administration, and information technology;

* Mariner Information (NMC-4) for issues related to credential application quality assurance, Freedom of Information Act (FOIA), WWII veterans, DD-214's, certificates of discharge, log books, shipping articles, and credential production;

* Mariner Evaluation (NMC-5) for issues related to professional, medical, and security evaluations.

FOR FURTHER INFORMATION CONTACT: If you have questions on this notice, call Mr. Jeffrey Brandt, National Maritime Center, telephone 304-433-3667.

SUPPLEMENTARY INFORMATION: The MLD Program restructuring and centralization plan, approved in 2005, will centralize many of the functions currently performed by 17 RECs at one Merchant Mariner Credential (MMC) processing center in Martinsburg, WV, over the next 12-18 months. Having one MMC processing center will allow for more consistent procedures, cost reduction, and improved oversight and customer service to mariners. The NMC has been reorganized into five divisions consisting of the Operations and Oversight Division (NMC-1), Mariner Training and Assessment Division (NMC-2), Program Support Division (NMC-3), Mariner Information Division (NMC-4), and Mariner Evaluation Division (NMC-5).

Dated: March 4, 2008.
Jeffrey G. Lantz,
Director of Commercial Regulations and Standards, United States Coast Guard.

[FR Doc. E8-4679 Filed 3-7-08; 8:45 am]

BILLING CODE 4910-15-P